ENVIRONMENTAL PROTECTION AGENCY

[FRL-7478-4]

Notice of Proposed Lessee Agreement Pursuant to the Comprehensive Environmental Response, Compensation and Liability Act of 1980, as Amended by the Superfund Amendments and Reauthorization Act and the Solid Waste Disposal Act, Commonly Referred to as the Resource Conservation and Recovery Act of 1976, as Amended by the Hazardous and Solid Waste Amendments of 1984 (“RCRA”)

AGENCY: Environmental Protection Agency (EPA).

ACTION: Notice; request for public comment.

SUMMARY: In accordance with the Comprehensive Environmental Response, Compensation, and Liability Act of 1980, as amended by the Superfund Amendments and Reauthorization Act of 1986 (“CERCLA”), 42 U.S.C. 9601-9675, and the Solid Waste Disposal Act, commonly referred to as the Resource Conservation and Recovery Act of 1976, as amended by the Hazardous and Solid Waste Amendments of 1984 (“RCRA”), 42 U.S.C. 6901-6992k, notice is hereby given that a proposed Prospective Lessee Agreement (“Lessee Agreement”) associated with a 27-acre parcel of property formerly owned and operated by Allied-Signal located in Baltimore, Maryland (the “Property”), was executed by the Environmental Protection Agency, the Maryland Department of the Environment and the Department of Justice and is now subject to public comment, after which the United States and the State of Maryland may modify or withdraw their consent if comments received disclose facts or considerations which indicate that the Lessee Agreement is inappropriate, improper, or inadequate. The Lessee Agreement will resolve certain potential EPA claims under sections 106 and 107(a) of CERCLA, 42 U.S.C. 9606 and 9607(a); sections 3008(h) and 7003 of RCRA, 42 U.S.C. 6928(h) and 6973 and MDE claims under Title 7, Subtitle 2 of the Environment Article of the Annotated Code of Maryland against SBER Harbor Point, LLC and Harbor Point Development, LLC (the “Lessees”).

During its operation and ownership of the Property, Allied-Signal used the Property for chromium processing activities which contributed to chromium contamination in the soil and the groundwater at the Property. In June 1989, Region III, the MDE and Allied-Signal entered into a Consent Decree under RCRA under which Allied-Signal agreed to conduct an on-site and off-site investigation. As a result of those investigations, EPA and MDE chose a remedy for the Site which required Allied-Signal to, among other things, construct a hydraulic barrier to contain the contaminated groundwater and conduct perpetual monitoring.

EPA and MDE have determined that Honeywell, the current owner of the Property, is successfully completing the requirements under the Consent Decree. Upon entering a lease with the Lessees, Honeywell will still be required to complete and maintain the remedy as provided for under the Consent Decree.

For fifteen (15) days following the date of publication of this notice, the Agency will accept written comments relating to the proposed Lessee Agreement. The Agency's response to any comments received will be available for public inspection at the U.S. Environmental Protection Agency, Region III, 1650 Arch Street, Philadelphia, PA 19103.

DATES: Comments must be submitted on or before April 24, 2003.

Availability: The proposed Lessee Agreement and additional background information relating to the proposed Lessee Agreement are available for public inspection at the U.S. Environmental Protection Agency, Region III, 1650 Arch Street, Philadelphia, PA 19103. A copy of the proposed Lessee Agreement may be obtained from Suzanne Canning, U.S. Environmental Protection Agency, Legal Program Coordinator (3RC00), 1650 Arch Street, Philadelphia, PA 19103. Comments should reference the “Allied-Signal Prospective Lessee Agreement” and “RCRA-03-2003-0088TH,” and should be forwarded to Suzanne Canning at the above address.

FOR FURTHER INFORMATION CONTACT: Sheila Briggs-Steuteville (3RC43), Senior Assistant Regional Counsel, U.S. Environmental Protection Agency, 1650 Arch Street, Philadelphia, PA 19103, Phone: (215) 814-2468.

Dated: April 2, 2003.
Donald S. Welsh,
Regional Administrator, Region III.

[FR Doc. 03-8653 Filed 4-8-03; 8:45 am]

BILLING CODE 6560-50-P